SECURITIES AND EXCHANGE COMMISSION

[File No. 1-15991]

Issuer Delisting; Notice of Application To Withdraw From Listing and Registration on the American Stock Exchange LLC (AirTran Holdings, Inc., Common Stock, $.001 Par Value)

August 9, 2001.

AirTran Holdings, Inc., a Nevada Corporation (“Issuer”), has filed an application with the Securities and Exchange Commission (“Commission”), pursuant to section 12(d) of the Securities Exchange Act of 1934 (“Act”)¹ and Rule 12d2-2(d) thereunder,² to withdraw its Common Stock, $.001 par value (“Security”), from listing and registration on the American Stock Exchange LLC (“Amex”).

¹ 15 U.S.C. 78l(d).

² 17 CFR 240.12d2-2(d).

The Issuer stated in its application that it has met the requirements of Amex Rule 18 by complying with all applicable laws in effect in the State of Nevada, in which it is incorporated and with the Amex's rules governing an issuer's voluntary withdrawal of a security from listing and registration. The Issuer's application relates solely to the Security's withdrawal from listing on the Amex and registration under section 12(b) of the Act ³ and shall not affect its obligation to be registered under section 12(g) the Act.⁴

³ 15 U.S.C. 78l(b).

⁴ 15 U.S.C. 78l(g).

On July 17, 2001, the Board of Directors of the Issuer approved resolutions to withdraw the Issuer's Security from listing on the Amex and list it on the New York Stock Exchange, Inc. (“NYSE”). In its application, the Issuer states that trading in the Security on the Amex will cease on August 14, 2001, and trading in the Security is expected to begin on the NYSE at the opening of business on August 15, 2001. In making the decision to withdraw the Security from listing on the Exchange, the Issuer represents that by doing so it can avoid the direct and indirect costs and the division of the market resulting from dual listing on the Amex and NYSE.

Any interested person may, on or before August 30, 2001, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵
⁶ 17 CFR 200.30-3(a)(1).
Jonathan G. Katz,
Secretary.

[FR Doc. 01-20498 Filed 8-14-01; 8:45 am]

BILLING CODE 8010-01-M